DEPARTMENT OF ENERGY

Federal Energy Regulatory Commission

Combined Notice of Filings # 1

January 22, 2008.

Take notice that the Commission received the following electric rate filings:

Docket Numbers: ER96-496-016; ER99-14-013; ER99-3658-003.

Applicants: Northeast Utilities Service Company; Select Energy, Inc.

Description: Northeast Utilities Service Co. on behalf of Northeast Utilities Companies et al. submits a request for renewed market-based rate authorization.

Filed Date: 01/14/2008

Accession Number: 20080116-0101.

Comment Date: 5 p.m. Eastern Time on Friday, March 14, 2008.

Docket Numbers: ER96-1361-013; ER99-2781-011; ER98-4138-009; ER00-1770-019; ER02-453-010; ER98-3096-015; ER07-903-002; ER05-1054-003; ER01-202-008; ER04-472-007.

Applicants: Atlantic City Electric Company; Delmarva Power & Light Company; Potomac Electric Power Company; Conectiv Energy Supply, Inc.; Conectiv Atlantic Generation, LLC; Conectiv Delmarva Generation LLC; Conectiv Bethlehem, LLC; Pepco Energy Services, Inc.; Bethlehem Renewable Energy, LLC; Eastern Landfill Gas, LLC; Potomac Power Resources, LLC; Fauquier Landfill Gas, LLC.

Description: PHI Entities submits updated market power study and revised market-based rate tariffs under Part 1 of 5.

Filed Date: 01/14/2008.

Accession Number: 20080116-0074.

Comment Date: 5 p.m. Eastern Time on Friday, March 14, 2008.

Docket Numbers: ER96-2495-030; ER97-4143-018; ER98-2075-024; ER98-542-020; ER07-26-001.

Applicants: AEP Power Marketing Inc; AEP Service Corporation; AEP Energy Partners, Inc.; CSW Energy Services, Inc.; Central and South West Services, Inc.

Description: Supplement to Attachment B of updated market power analysis of American Electric Power Service Corporation affiliates.

Filed Date: 01/15/2008

Accession Number: 20080115-5052.

Comment Date: 5 p.m. Eastern Time on Friday, March 14, 2008.

Docket Numbers: ER96-2585-007; ER99-2387-005; ER02-1470-005; ER02-1573-005; ER98-6-012; ER05-1249-005; EC06-125-000.

Applicants: Niagara Mohawk Power Corporation; New England Power Company; KeySpan-Ravenswood, Inc.; KeySpan-Glenwood Energy Center, LLC; KeySpan-Port Jefferson Energy Center, LLC; granite State Electric Company; Massachusetts Electric Company; The Narragansett Electric Company; National Grid plc and KeySpan Corporation.

Description: National Grid USA submits the Triennial Market Power Analysis Filing re Niagara Mohawk Power Corporation, et al.

Filed Date: 01/14/2008.

Accession Number: 20080117-0043.

Comment Date: 5 p.m. Eastern Time on Friday, March 14, 2008.

Docket Numbers: ER97-1481-011.

Applicants: Idaho Power Company.

Description: Idaho Power Company submits revisions to Paragraph 1 of the Market Based Rates Tariff in compliance with Order 697.

Filed Date: 01/11/2008.

Accession Number: 20080116-0045.

Comment Date: 5 p.m. Eastern Time on Friday, February 1, 2008.

Docket Numbers: ER97-2872-005; ER97-4234-076.

Applicants: Central Hudson Gas & Electric Corp.

Description: Central Hudson Gas and Electric Corp. submits its updated market power analysis in compliance with Order 697.

Filed Date: 01/11/2008.

Accession Number: 20080116-0106.

Comment Date: 5 p.m. Eastern Time on Friday, March 14, 2008.

Docket Numbers: ER97-4314-011; ER01-2783-008; ER05-20-003.

Applicants: Old Dominion Electric Cooperative, Inc.; TEC Trading, Inc.; New Dominion Energy Cooperative.

Description: Old Dominion Electric Cooperative et al. submits an updated market power analyses in support of continued authorization to make wholesale sales of electric energy.

Filed Date: 01/14/2008.

Accession Number: 20080116-0073.

Comment Date: 5 p.m. Eastern Time on Friday, March 14, 2008.

Docket Numbers: ER98-1466-005; ER00-814-006; ER00-2924-006; ER02-1638-005.

Applicants: Allegheny Power; Allegheny Energy Supply Company, LLC; Green Valley Hydro, LLC; Buchanan Generation, LLC.

Description: Allegheny Power et al. submit a combined Triennial Market Power Analysis etc. in compliance with the Commission's Order 697.

Filed Date: 01/14/2008.

Accession Number: 20080117-0017.

Comment Date: 5 p.m. Eastern Time on Friday, March 14, 2008.

Docket Numbers: ER98-4159-011; ER04-268-008; ER06-398-005; ER06-399-005; ER07-157-003.

Applicants: Duquesne Light Company; Duquesne Power, LLC; Duquesne Keystone, LLC; Duquesne Conemaugh, LLC; Macquarie Cook Power Inc.

Description: Duquesne Light Company et al. submit their updated market power analysis pursuant to Order 697.

Filed Date: 01/11/2008.

Accession Number: 20080116-0111.

Comment Date: 5 p.m. Eastern Time on Friday, March 14, 2008.

Docket Numbers: ER99-1522-004; ER04-359-002; ER02-723-003; ER06-796-002; ER07-553-001; ER07-554-001; ER07-555-001; ER07-556-001; ER07-557-001.

Applicants: Bangor Hydro-Electric Company; Emera Energy Services, Inc.; Emera Energy U.S. Subsidiary No. 1, Inc; Emera Energy U.S. Subsidiary No. 2, Inc.; Emera Energy Services Subsidiary No. 1 LLC; Emera Energy Services Subsidiary No. 2 LLC; Emera Energy Services Subsidiary No. 3 LLC; Emera Energy Services Subsidiary No. 4 LLC; Emera Energy Services Subsidiary No. 5 LLC.

Description: Bangor Hydro-Electric Co et al. submit the Updated Market Power Analysis.

Filed Date: 01/14/2008.

Accession Number: 20080117-0047.

Comment Date: 5 p.m. Eastern Time on Friday, March 14, 2008.

Docket Numbers: ER99-2251-008; ER99-2252-009; ER98-2491-014; ER97-705-019; ER02-2080-008; ER02-2546-009; ER99-3248-011; ER99-1213-009; ER01-1526-009.

Applicants: Consolidated Edison Company of New York; Orange and Rockland Utilities, Inc.; Consolidated Edison Energy, Inc.; Ocean Peaking Power, L.L.C.; CED Rock Springs, Inc.; Consolidated Edison Energy of Massachusetts; Lakewood Cogeneration, L.P.; Newington Energy, L.L.C.

Description: Con Edison Companies submits their triennial Market Power Analysis.

Filed Date: 01/11/2008.

Accession Number: 20080117-0049.

Comment Date: 5 p.m. Eastern Time on Friday, March 14, 2008

Docket Numbers: ER99-2948-012; ER00-2918-011; ER00-2917-011; ER97-2261-022; ER01-556-010; ER01-1654-013; ER02-2567-011; ER02-699-005; ER04-485-008; ER07-247-003; ER07-244-003; ER07-245-003.

Applicants: Baltimore Gas and Electric Company; Constellation Power Source Generation, Inc.; Calvert Cliffs Nuclear Power Plant, Inc.; Constellation Energy Commodities Group; Handsome Lake Energy, LLC; Nine Mile Point Nuclear Station, LLC; Constellation NewEnergy, Inc.; Constellation Energy Commodities Group Maine, LLC; R.E. Ginna Nuclear Power Plant, LLC; Raven One, LLC; Raven Two, LLC; Raven Three, LLC.

Description: Baltimore Gas and Electric Company et al. submits its triennial market power update.

Filed Date: 01/14/2008.

Accession Number: 20080116-0096.

Comment Date: 5 p.m. Eastern Time on Friday, March 14, 2008.

Docket Numbers: ER00-1712-008; ER02-2408-003; ER00-744-006; ER02-1327-005; ER00-1703-003; ER02-1749-003; ER02-1747-003; ER99-4503-005; ER00-2186-003; ER01-1559-004

Applicants: PPL Electric Utilities Corporation; Lower Mount Bethel Energy, LLC; PPL Brunner Island, LLC, PPL Holtwood, LLC, PPL Martins Creek, LLC, PPL Susquehanna, LLC; PPL University Park, LLC; PPL EnergyPlus, LLC; PPL Edgewood Energy, LLC; PPL Shoreham Energy, LLC; PPL Great Works, LLC; PPL Maine, LLC; PPL Wallingford Energy LLC.

Description: PPL Companies submits a Triennial Market Power Update that supports the continued allowance of market-based rates.

Filed Date: 01/14/2008.

Accession Number: 20080116-0103.

Comment Date: 5 p.m. Eastern Time on Friday, March 14, 2008.

Docket Numbers: ER00-3251-015; ER99-754-016; ER98-1734-014; ER01-1919-011; ER01-1147-006; ER01-513-021; ER99-2404-011;

Applicants: Exelon Generating Company, LLC; AmerGen Energy Company, LLC; Commonwealth Edison Company; Exelon Energy Company; PECO Energy Company; Exelon West Medway, LLC; Exelon Wyman LLC; Exelon New Boston LLC; Exelon Framingham LLC; Exelon New England Power Marketing, L.P.

Description: The MBR Companies submits updated market power analysis and revised tariff sheets in compliance with Order 697.

Filed Date: 01/14/2008.

Accession Number: 20080116-0104.

Comment Date: 5 p.m. Eastern Time on Friday, March 14, 2008.

Docket Numbers: ER01-468-008; ER00-3621-009; ER00-3746-009; ER04-318-004; ER05-36-005; ER05-37-005; ER05-34-005; ER05-35-005; ER04-249-005; ER99-1695-010; ER02-23-011; ER97-30-006; ER96-2869-013; ER97-3561-005; ER00-1737-011.

Applicants: Dominion Energy Marketing, Inc.; Dominion Nuclear Connecticut, Inc.; Dominion Nuclear Marketing III, LLC; Dominion Energy Kewaunee, Inc.; Dominion Energy Brayton Point, LLC; Dominion Energy Manchester Street, Inc. Dominion Energy New England, Inc.; Dominion Energy Salem; Dominion Retail, Inc.; Elwood Energy, LLC; Fairless Energy, LLC; Kincaid Generation, LLC; State Line Energy, L.L.C.; Virginia Electric and Power Company;

Description: Virginia Electric and Power Company et al. submits market power analyses for the two markets and two Commission-designated submarkets in which the Dominion Companies operate.

Filed Date: 01/14/2008.

Accession Number: 20080116-0092.

Comment Date: 5 p.m. Eastern Time on Friday, March 14, 2008.

Docket Numbers: ER01-1403-006; ER06-1443-002; ER04-366-005; ER01-2968-007; ER01-845-006; ER05-1122-004; ER08-107-001.

Applicants: FirstEnergy Operating Companies; Pennsylvania Power Company; Jersey Central Power & Light Co.; FirstEnergy Solutions Corp.; FirstEnergy Generation Corp.; FirstEnergy Nuclear Generation Corp.; FirstEnergy Generation Mansfield Unit 1.

Description: FirstEnergy Operating Companies submit the updated market power analyses in compliance with Order 697.

Filed Date: 01/14/2008.

Accession Number: 20080116-0086.

Comment Date: 5 p.m. Eastern Time on Friday, March 14, 2008.

Docket Numbers: ER05-320-005; ER02-999-007; ER97-2460-010; ER97-2463-007.

Applicants: Unitil Energy Systems, Inc.; Unitil Power Corporation; Fitchburg Gas and Electric Light Company.

Description: Unitil Energy Systems, Inc. et al. submit its updated market power analysis for market-based rate authority in compliance with Order 697.

Filed Date: 01/14/2008.

Accession Number: 20080116-0108.

Comment Date: 5 p.m. Eastern Time on Friday, March 14, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive email notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E8-1584 Filed 1-29-08; 8:45 am]

BILLING CODE 6717-01-P